DEPARTMENT OF AGRICULTURE

Natural Resources Conservation Service

[Docket No. NRCS-2013-0002]

Notice of Proposed Changes to the National Handbook of Conservation Practices for the Natural Resources Conservation Service

AGENCY: Natural Resources Conservation Service (NRCS), USDA.

ACTION: Notice of availability of proposed changes in the NRCS National Handbook of Conservation Practices for public review and comment.

SUMMARY: Notice is hereby given of the intention of NRCS to issue a series of revised conservation practice standards in the National Handbook of Conservation Practices. These standards include: Contour Farming (Code 330), Critical Area Planting (Code 342), Cross Wind Ridges (Code 588), Deep Tillage (Code 324), Field Border (Code 386), Filter Strip (Code 393), Land Smoothing (Code 466), Livestock Shelter Structure (Code 576), Mulching (Code 484), Residue and Tillage Management, No Till (Code 329), Residue and Tillage Management, Reduced Till (Code 345), Spring Development (Code 574), Stripcropping (Code 585), and Underground Outlet (Code 620).

NRCS State Conservationists who choose to adopt these practices for use within their States will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective August 20, 2013.

Comment Date: Submit comments on or before September 19, 2013. Final versions of these new or revised conservation practice standards will be adopted after the close of the 30-day period, and after consideration of all comments.

ADDRESSES: Comments should be submitted, identified by Docket Number NRCS-2013-0002, using any of the following methods:

• Federal eRulemaking Portal: http://www.regulations.gov. Follow the instructions for submitting comments.

• Email: Public.comments@wdc.usda.gov. Include Docket Number NRCS-2013-0002 or “comment on practice standards” in the subject line of the message.

• Mail: Comment Submissions, Attention: Anetra Harbor, Policy Analyst, Resource Economics, Analysis and Policy Division, Department of Agriculture, Natural Resources Conservation Service, George Washington Carver Center, 5601 Sunnyside Ave., Room 1-1112C, Beltsville, Maryland 20705.

All comments received will become a matter of public record and will be posted without change to http://www.regulations.gov including any personal information provided.

FOR FURTHER INFORMATION CONTACT: Wayne Bogovich, National Agricultural Engineer, Conservation Engineering Division, Department of Agriculture, Natural Resources Conservation Service, 1400 Independence Avenue SW., Room 6136 South Building, Washington, DC 20250.

Electronic copies of these standards can be downloaded or printed from the following Web site: ftp://pact.sc.egov.usda.gov/practice-standards/federal-register/. Requests for paper versions or inquiries may be directed to Bill Kuenstler, National Practice Standards Review Coordinator, Natural Resources Conservation Service, Central National Technology Support Center, 501 W. Felix St., Fort Worth, Texas 76115.

SUPPLEMENTARY INFORMATION: The amount of the proposed changes varies considerably for each of the conservation practice standards addressed in this notice. To fully understand the proposed changes, individuals are encouraged to compare these changes with each standard's current version as shown at: http://www.nrcs.usda.gov/wps/portal/nrcs/detailfull/national/technical/cp/ncps/?cid=nrcs143026849. To aid in this comparison, following are highlights of the proposed revisions to each standard:

Contour Farming (Code 330)—The agency revised the definition to emphasize proper alignments and revised the general criteria for maximum row grade to 4 percent based on RUSLE2 technology. We added the implementation requirement document to the specifications and plans.

Critical Area Planting (Code 342)—The agency deleted the purpose to rehabilitate and re-vegetate degraded sites that cannot be stabilized using normal establishment techniques as this purpose is implied in other purposes. We added the implementation requirement document to the specifications and plans.

Cross Wind Ridges (Code 588)—The agency revised the definition to: Ridges formed by tillage, planting, or other operations and aligned perpendicular to prevailing wind direction during critical wind erosion periods and revised the purpose to: Reduce soil particulate emissions to the air to reduce soil particulate emissions effecting air quality. We added the implementation requirement document to the specifications and plans.

Deep Tillage (Code 324)—The agency deleted the purpose to reduce concentration of soil contaminants which inhibit plant growth because there is no technology to describe the level of either contamination or a dilution factor. We added the implementation requirement document to the specifications and plans.

Field Border (Code 386)—The agency revised the condition where the practice applies to cover only on existing cropland and pastureland and deleted the purpose to manage pest populations. We added the implementation requirement document to the specifications and plans.

Filter Strip (Code 393)—The agency added a few additional considerations for species selection for native plant communities and organic operation considerations. We added the implementation requirement document to the specifications and plans.

Land Smoothing (Code 466)—The agency revised the Definition; added a cultural resource inventory and assessment to Considerations; added a plan to Operation and Maintenance; and added references.

Livestock Shelter Structure (Code 576)—The agency created this new conservation practice standard which includes livestock shade structures and livestock wind structures.

Mulching (Code 484)—The agency deleted the purposes to moderate soil temperature and suppress weeds as these do not address a resource concern; and revised the “Condition where practice applies” to remove this practice from being used for weed control for production agriculture. We added the implementation requirement document to the specifications and plans.

Residue and Tillage Management, No Till (Code 329)—The agency changed the practice name to Residue and Tillage Management, No-Till. No Till is inclusive of direct seed and strip till. In addition, we added criteria clarification to not allow any full-width tillage for this practice; reduced the maximum soil tillage intensity rating value for no till from 30 to 20; added implementation requirements to the specifications and plans; and changed the purpose “Reduce wind erosion and particulate matter less than 10 micrometers in diameter—PM10” to “Reduce tillage-induced particulate emissions” to address all sizes of tillage particulate emissions.

Residue and Tillage Management, Reduced Till (Code 345)—The agency incorporated 346 Residue and Tillage Management, Ridge Till into this standard; added criteria to establish a maximum soil tillage intensity value of 80; clarified the air quality purpose to reduce tillage-induced particulate emissions vs. only PM10 emissions; Revised the criteria for energy savings to a 25 percent reduction from the current baseline; and added implementation requirements to the specifications and plans.

Spring Development (Code 574)—The agency revised version is the result of a comprehensive review by NRCS biologists and hydrologists from differing arid and humid U.S. regions. The new Purpose statement no longer includes the wording “other agricultural uses.” Readability and flow of material is enhanced by using multiple sections with headings as opposed to the old format of a lengthy running text.

Stripcropping (Code 585)—The agency revised the definition to stress alternating strips of erosion susceptible crops and revised the wind erosion purpose to reduce wind erosion and associated transport of sediment and other wind borne contaminants. We added the implementation requirement document to the specifications and plans.

Underground Outlet (Code 620)—The agency expanded the Criteria and revised the Considerations sections.

Signed this 12th day of August, 2013, in Washington, DC.
Thomas W. Christensen,
Acting Associate Chief for Operations, Natural Resources Conservation Service.

[FR Doc. 2013-20250 Filed 8-19-13; 8:45 am]

BILLING CODE 3410-16-P